DEPARTMENT OF STATE

[Public Notice: 8097]

Notice of Charter Renewal of the President's Emergency Plan for AIDS Relief (PEPFAR) Scientific Advisory Board

SUMMARY: The Office of the U.S. Global AIDS Coordinator (S/GAC) announces the charter renewal of the PEPFAR Scientific Advisory Board (hereinafter referred to as “the Board”). This charter renewal will take place on December 5, 2012 and will expire after two years.

The meeting will be hosted by the Office of the U.S. Global AIDS Coordinator, and led by Ambassador Eric Goosby, who leads implementation of the President's Emergency Plan for AIDS Relief (PEPFAR).

Pursuant to Section 10(a)(2) of the Federal Advisory Committee Act (92), S/GAC is giving notice of the charter renewal for the PEPFAR SAB. The Board serves the Global AIDS Coordinator in a solely advisory capacity concerning scientific, implementation, and policy issues related to the global response to HIV/AIDS. The Board is composed of 53 members representing academic institutions, research organizations, U.S. government agencies, multilateral organizations, and the private sector. The diversity of the Board ensures the requisite range of views and expertise necessary to discharge its responsibilities. Please see the SAB page of the PEPFAR Web site for information on the Board's activities and membership (http://www.pepfar.gov/sab/index.htm). Please refer to the notice published in the Federal Register on October 1, 2010 (https://federalregister.gov/a/2010-24691) for additional information about the SAB.

Please contact Amy Dubois, Acting Director of the Office of Research and Science, Office of the U.S. Global AIDS Coordinator at (202) 663-2440 or DuboisA@state.gov.

Dated: November 6, 2012.
Amy Dubois,
Acting Director, Office of Research and Science, Office of the U.S. Global AIDS Coordinator, Department of State.

[FR Doc. 2012-28772 Filed 11-26-12; 8:45 am]

BILLING CODE 4710-10-P